DEPARTMENT OF HOMELAND SECURITY

Coast Guard

33 CFR Part 165

[Docket Number USCG-2016-0799]

RIN 1625-AA87

Safety and Security Zones; New York Marine Inspection and Captain of the Port Zone

AGENCY: Coast Guard, DHS.

ACTION: Advance notice of proposed rulemaking; reopening of comment period.

SUMMARY: The Coast Guard is reopening the comment period for the Advance notice of proposed rulemaking (ANPRM) it published on November 3, 2016, regarding the modification of the security zone between Liberty State Park and Ellis Island. In response to public requests, the Coast Guard is extending the comment period until April 17, 2017.

DATES: Comments and related material must be received by the Coast Guard on or before April 17, 2017.

ADDRESSES: You may submit comments identified by docket number USCG-2016-0799 using the Federal eRulemaking Portal at http://www.regulations.gov. See the “Public Participation and Request for Comments” portion of the SUPPLEMENTARY INFORMATION section for further instructions on submitting comments.

FOR FURTHER INFORMATION CONTACT: If you have questions on this document, call or email MST1 Kristina Pundt, Waterways Management at U.S. Coast Guard Sector New York, telephone (718) 354-4352, email Kristina.H.Pundt@uscg.mil.

SUPPLEMENTARY INFORMATION:

Table of Acronyms

ANPRM Advance notice of proposed rulemaking

DHS Department of Homeland Security

FR Federal Register

A. Public Participation and Request for Comments

We view public participation as essential to effective rulemaking, and will consider all comments and material received due on or before April 17, 2017. Your comments can help shape the outcome of this possible rulemaking. If you submit a comment, please include the docket number for this rulemaking, indicate the specific section of this document to which each comment applies, indicate the specific question number to which each comment applies and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in the ANPRM as being available in the docket, and all public comments, will be in our online docket at http://www.regulations.gov and can be viewed by following that Web site's instructions. Additionally, if you go to the online docket and sign up for email alerts, you will be notified when comments are posted and if we publish rulemaking documents related to the ANPRM.

B. Basis and Purpose

The Coast Guard is responsible for considering adjustments to improve navigational and environmental safety of waterways, including those requested by groups of mariners. On November 3, 2016, the Coast Guard published an ANPRM in the Federal Register (81 FR 76545) entitled, “Safety and Security Zone; New York Marine Inspection Zone and Captain of the Port Zone.” With its publication, we initiated the early stage of a methodical and public rulemaking process to learn all possible navigational, environmental, terrestrial, and other effects caused by a modification of the security zone around the Ellis Island Bridge. The ANPRM is a preliminary step, the goal of which is to gather information that defines the multiple stakeholder considerations we need to incorporate when considering a proposed rule for modification of the security zone around the Ellis Island Bridge. To continue encouraging this important public discussion, we are adding an additional 60 days to the comment period.

C. Information Requested

Public participation is requested to assist in determining the best way forward with respect to modifying the existing security zone surrounding the Ellis Island Bridge. To aid us in developing a possible proposed rule, we seek any comments, whether positive or negative, including but not limited to, the impacts the existing security zone surrounding the Ellis Island Bridge has on navigational safety.

Please submit comments or concerns you may have in accordance with the “Public Participation and Request for Comments” section above.

We are also seeking comments on the current vessel traffic and the types of vessels that transit in this area.

Dated: December 27, 2016.
M.H. Day,
Captain, U.S. Coast Guard, Captain of the Port New York.

[FR Doc. 2017-02934 Filed 2-13-17; 8:45 am]

BILLING CODE 9110-04-P